DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Washington County, Alabama
Docket No.: FEMA-B-1218
Alabama | Unincorporated Areas of Washington County | Tombigbee River | Approximately 1,056 feet downstream of the railroad | +35
|  |  | Approximately 2.1 miles upstream of the railroad | +36
* National Geodetic Vertical Datum.
+ North American Vertical Datum.
# Depth in feet above ground.
‸ Mean Sea Level, rounded to the nearest 0.1 meter.
ADDRESSES
Unincorporated Areas of Washington County
Maps are available for inspection at 45 Court Street, Chatom, AL 36518

Flooding source(s) | Location of referenced elevation | * Elevation in feet (NGVD) + Elevation in feet (NAVD) # Depth in feet above ground ‸ Elevation in meters (MSL) Modified | Communities affected
Sonoma County, California, and Incorporated Areas
Docket No.: FEMA-B-1200
Colgan Creek | Approximately 500 feet upstream of Llano Road | +80 | City of Santa Rosa, Unincorporated Areas of Sonoma County.
| Approximately 0.98 mile upstream of Meda Avenue | +356
Naval Creek | Approximately 960 feet upstream of Llano Road | +79 | City of Santa Rosa, Unincorporated Areas of Sonoma County.
| Approximately 0.57 mile upstream of Wright Road | +97
Roseland Creek | Approximately 0.5 mile downstream of Llano Road | +79 | City of Santa Rosa, Unincorporated Areas of Sonoma County.
| Approximately 1,000 feet upstream of Dutton Avenue | +142
* National Geodetic Vertical Datum.
+ North American Vertical Datum.
# Depth in feet above ground.
‸ Mean Sea Level, rounded to the nearest 0.1 meter.
ADDRESSES
City of Santa Rosa
Maps are available for inspection at 100 Santa Rosa Avenue, Room 3, Santa Rosa, CA 95404.
Unincorporated Areas of Sonoma County
Maps are available for inspection at 575 Administration Drive, Room 100A, Santa Rosa, CA 95404.
Mesa County, Colorado, and Incorporated Areas
Docket No.: FEMA-B-1220
Leach Creek | Approximately 200 feet upstream of U.S. Route 6/U.S. Route 50 | +4,547 | City of Grand Junction, Unincorporated Areas of Mesa County.
| Approximately 0.55 mile upstream of Summer Hill Way | +4751
North Leach Creek | At the Leach Creek confluence | +4,561 | City of Grand Junction.
| Approximately 200 feet upstream of G Road | +4,567
Ranchmen's Ditch | At the Mesa Mall/Patterson Road Storm Sewer output | +4,547 | City of Grand Junction.
| Approximately 0.45 mile upstream of North 12th Street | +4,688
* National Geodetic Vertical Datum.
+ North American Vertical Datum.
# Depth in feet above ground.
‸ Mean Sea Level, rounded to the nearest 0.1 meter.
ADDRESSES
City of Grand Junction
Maps are available for inspection at 250 North 5th Street, Grand Junction, CO 81501.
Unincorporated Areas of Mesa County
Maps are available for inspection at 544 Rood Avenue, Grand Junction, CO 81502.
Anne Arundel County, Maryland, and Incorporated Areas
Docket No.: FEMA-B-1101
Cabin Branch | Approximately 122 feet downstream of Chessie System | +7 | Unincorporated Areas of Anne Arundel County.
| Approximately 325 feet upstream of Andover Road | +118
Franklin Branch | At the Midway Branch confluence | +127 | Unincorporated Areas of Anne Arundel County.
| Approximately 780 feet upstream of Clark Road | +214
Hall Creek | At the most downstream Calvert County boundary | +40 | Unincorporated Areas of Anne Arundel County.
| At the most upstream Calvert County boundary | +52
Little Patuxent River | Approximately 600 feet upstream of the Patuxent River confluence | +46 | Unincorporated Areas of Anne Arundel County.
| Approximately 1,456 feet upstream of Brock Bridge Road | +132
Marley Creek | Approximately 485 feet upstream of Arundel Expressway | +7 | Unincorporated Areas of Anne Arundel County.
| Approximately 165 feet upstream of Elevation Road | +26
Midway Branch | At the Little Patuxent River confluence | +85 | Unincorporated Areas of Anne Arundel County.
| Approximately 0.58 mile upstream of Clark Road | +211
Patapsco River | Approximately 0.77 mile downstream of the Harbor Tunnel Thruway | +12 | Unincorporated Areas of Anne Arundel County.
| Approximately 200 feet upstream of I-195 | +26
Patuxent River | Approximately 0.56 mile downstream of Southern Maryland Boulevard | +8 | Unincorporated Areas of Anne Arundel County.
| Approximately 0.57 mile upstream of Laurel Fort Meade Road | +140
Sawmill Creek | At the upstream side of Crain Highway | +10 | Unincorporated Areas of Anne Arundel County.
| Approximately 400 feet upstream of Washington Baltimore and Annapolis Road | +105
Severn Run | Approximately 0.43 mile downstream of Veterans Highway | +7 | Unincorporated Areas of Anne Arundel County.
| Approximately 0.5 mile upstream of Telegraph Road | +98
* National Geodetic Vertical Datum.
+ North American Vertical Datum.
# Depth in feet above ground.
‸ Mean Sea Level, rounded to the nearest 0.1 meter.
ADDRESSES
Unincorporated Areas of Anne Arundel County
Maps are available for inspection at the Anne Arundel County Permit Application Center, 2664 Riva Road, Annapolis, MD 21401.
Menominee County, Michigan (All Jurisdictions)
Docket No.: FEMA-B-1208
Green Bay | Entire shoreline within community | +585 | City of Menominee, Township of Cedarville, Township of Ingallston, Township of Menominee.
Menominee River | At the Green Bay confluence | +585 | City of Menominee.
| Approximately 700 feet downstream of Canadian National Railway | +585
* National Geodetic Vertical Datum.
+ North American Vertical Datum.
# Depth in feet above ground.
‸ Mean Sea Level, rounded to the nearest 0.1 meter.
ADDRESSES
City of Menominee
Maps are available for inspection at City Hall, 2511 10th Street, Menominee, MI 49858.
Township of Cedarville
Maps are available for inspection at the Cedarville Township Hall, Old Mill Road and M-35, Cedar River, MI 49887.
Township of Ingallston
Maps are available for inspection at the Ingallston Township Hall, W3790 Town Hall Lane No. 13.5, Wallace, MI 49893.
Township of Menominee
Maps are available for inspection at the Township Hall, N2283 O1 Drive, Menominee, MI 49858.
Huntingdon County, Pennsylvania (All Jurisdictions)
Docket No.: FEMA-B-1166
Crooked Creek | Approximately 0.88 mile downstream of Beaver Lane | +628 | Township of Walker.
| Approximately 0.70 mile downstream of Beaver Lane | +633
Hares Valley Creek | Approximately 800 feet downstream of Pennsylvania Railroad | +586 | Township of Union.
| Approximately 500 feet upstream of Pennsylvania Railroad | +586
Hill Valley Creek | Approximately 240 feet downstream of Norfolk Southern Railroad | +555 | Township of Shirley.
| Approximately 90 feet upstream of Norfolk Southern Railroad | +555
Juniata River | Approximately 0.39 mile downstream of Bridge Street | +584 | Township of Union.
| Approximately 1,670 feet downstream of Bridge Street | +584
Juniata River | Approximately 0.75 mile downstream of North Jefferson Street | +569 | Township of Brady, Township of Shirley.
| Approximately 0.53 mile downstream of North Jefferson Street | +569
Juniata River | Just upstream of U.S. Route 22 (William Penn Highway) | +613 | Township of Henderson, Township of Smithfield.
| Approximately 200 feet upstream of U.S. Route 22 (William Penn Highway) | +614
Juniata River | Approximately 2 miles downstream of the confluence with Shaver Creek | +671 | Township of Logan.
| Approximately 140 feet downstream of the confluence with Shaver Creek | +674
Juniata River | Approximately 1.72 miles upstream of Bridge Street (Cypress Island Bridge) | +638 | Township of Porter.
| Approximately 1.78 miles upstream of Bridge Street (Cypress Island Bridge) | +638
Little Juniata River | Approximately 1,450 feet upstream of Norfolk Southern Railroad | +847 | Borough of Birmingham.
| Approximately 0.52 mile upstream of Norfolk Southern Railroad | +848
Little Juniata River | Approximately 440 feet downstream of the Pemberton Road Bridge | +797 | Township of Spruce Creek.
| Approximately 300 feet downstream of Birmingham Pike (Railroad Bridge) | +813
Murray Run | Approximately 280 feet downstream of Murray Run Road | +691 | Township of Henderson.
| Approximately 170 feet downstream of Murray Run Road | +691
Standing Stone Creek | Approximately 1.57 miles downstream of Stone Creek Ridge Road | +661 | Township of Oneida.
| Approximately 1.55 miles downstream of Stone Creek Ridge Road | +661
Three Springs Creek | Approximately 800 feet downstream of Hudson Street | +700 | Borough of Three Springs.
| Approximately 800 feet upstream of Elliots Run Road | +713
Unnamed Tributary to Shoup Run | Approximately 400 feet upstream of Broad Top Mountain Road | +1,139 | Township of Carbon.
| Approximately 520 feet upstream of Broad Top Mountain Road | +1,142
* National Geodetic Vertical Datum.
+ North American Vertical Datum.
# Depth in feet above ground.
‸ Mean Sea Level, rounded to the nearest 0.1 meter.
ADDRESSES
Borough of Birmingham
Maps are available for inspection at the Borough Building, 2450 Tyrone Street, Birmingham, PA 16686.
Borough of Three Springs
Maps are available for inspection at the Borough Building, 8444 Hudson Street, Three Springs, PA 17264.
Township of Brady
Maps are available for inspection at the Brady Township Building, 11311 Beatty Road, Mill Creek, PA 17060.
Township of Carbon
Maps are available for inspection at the Carbon Township Building, 20188 Little Valley Road, Saxton, PA 16678.
Township of Henderson
Maps are available for inspection at the Henderson Township Building, 9024 Sugar Grove Road, Huntingdon, PA 16652.
Township of Logan
Maps are available for inspection at the Logan Township Building, 7228 Diamond Valley, Alexandria, PA 16611.
Township of Oneida
Maps are available for inspection at the Oneida Township Building, 9775 Blair Road, Huntingdon, PA 16652.
Township of Porter
Maps are available for inspection at the Porter Township Building, 7551 Bridge Street, Alexandria, PA 16611.
Township of Shirley
Maps are available for inspection at the Shirley Township Building, 15480 Croghan Pike, Shirleysburg, PA 17260.
Township of Smithfield
Maps are available for inspection at the Smithfield Township Building, 202 South 13th Street, Suite 3, Huntingdon, PA 16652.
Township of Spruce Creek
Maps are available for inspection at the Spruce Creek Township Building, 4602 Eden Road, Tyrone, PA 16686.
Township of Union
Maps are available for inspection at the Union Township Building, 14129 Trough Creek Valley Pike, Huntingdon, PA 16652.
Township of Walker
Maps are available for inspection at the Walker Township Building, 5568 Bouquet Street, McConnellstown, PA 16660.
Thurston County, Washington, and Incorporated Areas
Docket No.: FEMA-B-1185
Deschutes River | Approximately 615 feet downstream of Waldrick Road Southeast | +240 | Unincorporated Areas of Thurston County.
| At the downstream side of Waldrick Road Southeast | +243
* National Geodetic Vertical Datum.
+ North American Vertical Datum.
# Depth in feet above ground.
‸ Mean Sea Level, rounded to the nearest 0.1 meter.
ADDRESSES
Unincorporated Areas of Thurston County
Maps are available for inspection at the Thurston County Courthouse, 2000 Lakeridge Drive Southwest, Olympia, WA 98502.
Juneau County, Wisconsin, and Incorporated Areas
Docket No.: FEMA-B-1210
Baraboo River | At the upstream side of Gehri Road | +913 | Unincorporated Areas of Juneau County, Village of Union Center, Village of Wonewoc.
| At the West Branch Baraboo River confluence | +919
Baraboo River Split Flow | At the Baraboo River divergence | +916 | Unincorporated Areas of Juneau County.
| At the Baraboo River convergence | +917
Cranberry Creek (overflow from Yellow River) | Approximately 1,000 feet downstream of the intersection of 8th Street and 13th Avenue | +934 | Unincorporated Areas of Juneau County.
| At the downstream side of County Highway F | +951
Gardner Creek (overflow effects from Baraboo River) | At the Sauk County boundary | +907 | Unincorporated Areas of Juneau County.
Onemile Creek (backwater effects from Lemonweir River) | At the upstream side of U.S. Route 12 | +866 | Unincorporated Areas of Juneau County.
| Approximately 1,875 feet upstream of U.S. Route 12 | +866
South Branch Yellow River (backwater effects from Yellow River) | At the downstream side of State Route 80 | +899 | Unincorporated Areas of Juneau County, Village of Necedah.
Unnamed Ponding Area (backwater effects from Baraboo River) | At the Sauk County boundary | +908 | Unincorporated Areas of Juneau County.
Unnamed Ponding Area (backwater effects from Lemonweir River) | Approximately 50 feet west of U.S. Route 12 | +866 | Ho-Chunk Nation.
West Branch Baraboo River | At the Baraboo River confluence | +920 | Unincorporated Areas of Juneau County, Village of Union Center.
| At the Vernon County boundary | +931
West Branch Baraboo River Split Flow 1 | At the West Branch Baraboo River divergence | +927 | Unincorporated Areas of Juneau County.
| At the West Branch Baraboo River convergence | +929
West Branch Baraboo River Split Flow 2 | At the West Branch Baraboo River confluence | +929 | Unincorporated Areas of Juneau County.
| At the Vernon County boundary | +931
* National Geodetic Vertical Datum.
+ North American Vertical Datum.
# Depth in feet above ground.
‸ Mean Sea Level, rounded to the nearest 0.1 meter.
ADDRESSES
Ho-Chunk Nation
Maps are available for inspection at W9814 Airport Road, Black River Falls, WI 54615.
Unincorporated Areas of Juneau County
Maps are available for inspection at 220 East State Street, Mauston, WI 53944.
Village of Necedah
Maps are available for inspection at 101 Center Street, Necedah, WI 54646.
Village of Union Center
Maps are available for inspection at 339 High Street, Union Center, WI 53962.
Village of Wonewoc
Maps are available for inspection at 200 West Street, Wonewoc, WI 53968.

(Catalog of Federal Domestic Assistance No. 97.022, “Flood Insurance.”)

Dated: August 1, 2012.
Sandra K. Knight,
Deputy Associate Administrator for Mitigation, Department of Homeland Security, Federal Emergency Management Agency.

[FR Doc. 2012-20135 Filed 8-15-12; 8:45 am]

BILLING CODE 9110-12-P